DEPARTMENT OF ENERGY

Federal Energy Regulatory Commission

[Docket No. RP02-378-001]

Texas Gas Transmission Corporation; Notice of Compliance Filing

January 24, 2003.

Take notice that on January 21, 2003, Texas Gas Transmission Corporation (Texas Gas) tendered for filing as part of its FERC Gas Tariff, First Revised Volume No. 1, the tariff sheets listed below to become effective on March 1, 2003:

First Revised Sheet No. 239.

First Revised Sheet No. 240.

First Revised Sheet No. 241.

Sheet No. 395.

Original Sheet No. 400.

Original Sheet No. 401.

Original Sheet No. 402.

Original Sheet No. 403.

Sheet No. 404.

Texas Gas states that the tariff sheets filed herewith are being submitted in compliance with the Commission's Order, which conditionally accepted Texas Gas's web-based auction proposal, effective December 31, 2002, and, in Ordering Paragraph (A), further directed Texas Gas to file within 21 days actual revised tariff sheets incorporating the pro forma modifications proposed in its October 2, 2002, submission and other changes discussed within the Order itself.

Texas Gas states that copies of the tariff sheets are being mailed to all parties in this docket, on Texas Gas's official service list, and to Texas Gas's jurisdictional customers and to interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 3, 2003.

Magalie R. Salas,
Secretary.

[FR Doc. 03-2238 Filed 1-29-03; 8:45 am]

BILLING CODE 6717-01-P